DEPARTMENT OF COMMERCE

International Trade Administration

[A-580-902]

Utility Scale Wind Towers From the Republic of Korea: Final Results of Antidumping Duty Administrative Review; 2021-2022; Correction

AGENCY: Enforcement and Compliance, International Trade Administration, Department of Commerce.

ACTION: Notice; correction.

SUMMARY: The U.S. Department of Commerce (Commerce) published notice in the Federal Register of March 7, 2024, in which Commerce announced the final results of the 2021-2022 administrative review of the antidumping duty (AD) order on utility scale wind towers from the Republic of Korea. That notice did not include our final determination of no shipments, the dumping margin and the appendix listing companies not selected for individual review, and information in the “Assessment Rates” section for companies not selected for individual review. Moreover, the notice listed incorrect dates for the period of review (POR) in the “Final Results of Review” section.

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

Background On March 7, 2024, Commerce published in the Federal Register the Final Results.¹ In that notice, we failed to include our final determination of no shipments, the dumping margin and the appendix listing companies not selected for individual review, as well as information in the “Assessment Rate” section for companies not selected for individual review. Finally, we inadvertently listed incorrect dates for the POR in the “Final Results of Review” section.

¹ See Utility Scale Wind Towers from the Republic of Korea: Final Results of Antidumping Duty Administrative Review; 2021-2022, 89 FR 16544 (March 7, 2024) (Final Results).

Correction

In the Federal Register of March 7, 2024, in FR Doc 2024-04881, on page 16544, in the third column, add the section below entitled “Final Determination of No Shipments” after “Changes Since the Preliminary Results,” and replace the section entitled “Final Results of Review” with the section below entitled “Final Results of Review.”

In addition, on page 16544, in the third column, replace the section entitled “Assessment Rates” with the section below entitled “Assessment Rates.”

Finally, on page 16545, in the third column, revise the title of the appendix to be Appendix I and add the attached Appendix II.

Final Determination of No Shipments

In the Preliminary Results, Commerce determined that the following companies had no shipments of subject merchandise during the POR: Hyosung Heavy Industries Corporation (Hyosung) and CS Wind Corporation (CS Wind).² As we have not received any information to contradict this determination, consistent with our practice, we will instruct U.S. Customs and Border Protection to liquidate any suspended entries that entered under Hyosung's and CS Wind's AD case numbers (i.e., at that exporter's rate), at the all-others rate if there is no rate for the intermediate company(ies) involved in the transaction.

² See Utility Scale Wind Towers from the Republic of Korea: Preliminary Results of Antidumping Duty Administrative Review and Preliminary Determination of No Shipments; 2021-2022, 88 FR 60929 (September 6, 2023) (Preliminary Results).

Final Results of Review

We determine that the following weighted-average dumping margins exist for the period August 1, 2021, through July 31, 2022:

Producer/exporter | Weighted- average dumping margin (percent)
Dongkuk S&C Co., Ltd | 1.95
Companies Not Selected for Individual Review ³ | 1.95

Assessment Rates

³ The companies not selected for individual review are listed in Appendix II.

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), Dongkuk S&C Co., Ltd. (Dongkuk) reported the entered value of its U.S. sales such that we calculated importer-specific ad valorem duty assessment rates based on the ratio of the total amount of dumping calculated for the examined sales to the total entered value of the sales for which entered value was reported. Where either the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by Dongkuk for which the company did not know that the merchandise it sold to the intermediary (e.g., a reseller, trading company, or exporter) was destined for the United States. In such instances, we will instruct CBP to liquidate unreviewed entries at the all-others rate of 5.41 percent if there is no rate for the intermediate company(ies) involved in the transaction.⁴

⁴ See Order; and Utility Scale Wind Towers from Canada, Indonesia, the Republic of Korea, and the Socialist Republic of Vietnam: Notice of Correction to the Antidumping Duty Orders, 85 FR 56213 (September 11, 2020) (correcting the date that the provisional measures period expired). For a full discussion of the “automatic assessment” practice, see Antidumping and Countervailing Duty Proceedings: Assessment of Antidumping Duties, 68 FR 23954 (May 6, 2003).

For the companies not selected for individual review, we used an assessment rate based on the cash deposit rate calculated for Dongkuk. The final results of this review shall be the basis for the assessment of antidumping duties on entries of merchandise covered by the final results of this review and for the future deposits of estimated duties where applicable.⁵

⁵ See section 751(a)(2)(C) of the Act.

Commerce intends to issue liquidation instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Notification to Interested Parties

This notice is issued and published in accordance with sections 751(a)(1) and 777(i)(1) of the Tariff Act of 1930, as amended.

Dated: March 26, 2024.
Abdelali Elouaradia,
Deputy Assistant Secretary for Enforcement and Compliance.

Appendix II

Review-Specific Rate Applicable to Companies Not Selected for Individual Review

1. CS Wind China Co., Ltd.

2. CS Wind Malaysia Sdn. Bhd.

3. CS Wind Taiwan Ltd.

4. CS Wind Turkey Kule Imalati A.S.

5. CS Wind UK Limited

6. CS Wind Vietnam Co., Ltd.

7. Enercon Korea Inc.

8. GE Renewable Energy

9. Nordex SE

10. Siemens Gamesa Renewable Energy Limited

11. Vestas Korea

12. Vestas Korea Wind Technology Ltd.

[FR Doc. 2024-06835 Filed 3-29-24; 8:45 am]

BILLING CODE 3510-DS-P